DEPARTMENT OF DEFENSE

Department of the Army

Advisory Committee Meeting Notice

AGENCY: Department of the Army, DOD.

ACTION: Notice of meeting.

SUMMARY: Pursuant to the Federal Advisory Committee Act of 1972 (5 U.S.C., Appendix, as amended), the Sunshine in the Government Act of 1976 (U.S.C. 552b, as amended) and 41 Code of the Federal Regulations (CFR 102-3.140 through 160), the Department of the Army announces the following committee meeting:

Name of Committee: Army Education Advisory Committee.

Date: July 7, 2008.

Place: Meeting will be conducted electronically online using Adobe Connect.

Time: 1400-1500.

FOR FURTHER INFORMATION CONTACT: For information please contact Mr. Wayne Joyner at albert.wayne.joyner@us.army.mil or (757) 788-5890. Written submissions are to be submitted to the following address: Army Education Advisory Committee, ATTN: Designated Federal Officer, 5 Fenwick Road, building 161, room 217, Fort Monroe, Virginia 23651. Attendance will be limited to those persons who have notified the Advisory Committee Management Office at least 10 calendar days prior to the meeting requesting the web address of the meeting and guest authorization.

SUPPLEMENTARY INFORMATION: Proposed Agenda: The meeting agenda includes a review of actions and recommendations from five subcommittees: Defense Language Institute Foreign Language Center, Command and General Staff College Board of Visitors, Army War College Board of Visitors, Distance Learning/Training Technology Applications Subcommittee, and the Reserve Officer Training Corps Subcommittee. Approved recommendations will be forwarded to the Office of the Administrative Assistant, Secretary of the Army, the appropriate Subcommittee's Alternate Designated Federal Official (ADFO), and the Subcommittee's decision maker.

Filing Written Statement: Pursuant to 41 CFR 102-3.140d, the Committee is not obligated to allow the public to speak; however, interested persons may submit a written statement for consideration by the Subcommittees. Individuals submitting a written statement must submit their statement to the Designated Federal Officer (DFO) at the address listed (see FOR FURTHER INFORMATION CONTACT). Written statements not received at least 10 calendar days prior to the meeting may not be provided to or considered by the subcommittees until its next meeting.

The DFO will review all timely submissions with the Chairperson, and ensure they are provided to the members of the respective subcommittee before the meeting. After reviewing written comments, the Chairperson and the DFO may choose to invite the submitter of the comments to orally present their issue during the open portion of this meeting or at a future meeting.

The DFO, in consultation with the Chairperson, may allot a specific amount of time for the members of the public to present their issues for review and discussion.

Brenda S. Bowen,
Army Federal Register Liaison Officer.

[FR Doc. E8-13052 Filed 6-10-08; 8:45 am]

BILLING CODE 3710-08-P